DEPARTMENT OF HOUSING AND URBAN DEVELOPMENT

[Docket No. FR-5415-FA-42]

Announcement of Funding Awards for Fiscal Year 2010 Sustainable Construction in Indian Country Small Grant Program

AGENCY: Office of the Assistant Secretary for Policy Development and Research, HUD.

ACTION: Announcement of funding award.

SUMMARY: In accordance with Section 102(a)(4)(C) of the Department of Housing and Urban Development (HUD) Reform Act of 1989, this document notifies the public of funding awards for the Fiscal Year (FY) 2010 Sustainable Construction in Indian Country Small Grant (SCinIC) Program. The purpose of this document is to announce the names and addresses of the award winners and the amount of the award to be used to help develop, deploy, and disseminate innovative approaches of Sustainable Construction methods or practices that are suitable for Indian Country.

FOR FURTHER INFORMATION CONTACT: Mike Blanford, Affordable Housing Research and Technology, Office of Policy Development and Research, U.S. Department of Housing and Urban Development, Room 8134, 451 Seventh Street SW., Washington, DC 20410, Telephone at (202) 402-5728. Persons with speech or hearing impairments may call the Federal Relay Service TTY at (800) 877-8339. Except for the “800” number, these telephone numbers are not toll-free. Individuals may also reach Mr. Blanford via email at Michael.D.Blanford@hud.gov.

SUPPLEMENTARY INFORMATION: HUD invited applicants to submit proposals for funding to develop and disseminate one or more sets of “Lessons Learned” that will inform Native American communities of the issues to be considered when taking on sustainable construction efforts. HUD was looking for applications that can provide Native American communities with information from Native American communities that have undertaken some level of Sustainable Construction, and to use their experience to inform other communities as they consider undertaking similar activity. Grants could range from $50,000 to $125,000. Grants are awarded for up to a two-year period.

The Catalog of Federal Domestic Assistance number for this program is 14.525.

On October 14, 2011, HUD posted a Notice of Funds Availability (NOFA) for Fiscal Year 2010 Transformation Initiative: Sustainable Construction in Indian Country Small Grant Program on Grants.gov. The Department reviewed, evaluated and scored the applications received based on the criteria in the NOFA. As a result, HUD has funded the applications announced below, and in accordance with Section 102(a)(4)(C) of the Department of Housing and Urban Development Reform Act of 1989 (103 Stat. 1987, U.S.C. 3545).

Dated: January 6, 2012.
Raphael W. Bostic,
Assistant Secretary for Policy Development and Research.

List of Awardees for Grant Assistance Under the Fiscal Year (FY) 2010 Sustainable Construction in Indian Country Small Grant Program Funding Competition, by Institution, Address, and Grant Amount

1. Enterprise Community Partners, 10227 Wincopin Circle, Columbia, MD 21044-3400. Grant: $120,678.

[FR Doc. 2012-2476 Filed 2-2-12; 8:45 am]

BILLING CODE 4210-67-P